DEPARTMENT OF TRANSPORTATION

Federal Highway Administration

Notice of Final Federal Agency Action on Proposed Transportation Project in Illinois and Indiana

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to a proposed highway project within the Illiana Corridor Study Area, which is generally the area between I-55 in Illinois on the west, I-65 in Indiana on the east, the areas south of US 30 in Will County in Illinois and Lake County in Indiana to the northern portion of Kankakee County in Illinois and the southern portion of Lake County in Indiana. The Federal actions, taken as a result of a tiered environmental review process under the National Environmental Policy Act, 42 U.S.C. 4321-4351 (NEPA), and implementing regulations on tiering, 40 CFR 1502.20, 40 CFR 1508.28, and 23 CFR Part 771, determined certain issues relating to the proposed project. The Tier One decisions will be used by Federal agencies in subsequent proceedings, including decisions whether to grant licenses, permits, and approvals for the proposed highway project. Tier One decisions also may be relied upon by State and local agencies in proceedings on the proposed project.

DATES: By this notice, the FHWA is advising the public of final agency actions subject to 23 U.S.C. 139(l)(1). A claim seeking judicial review of the Tier One Federal agency actions of the proposed highway project will be barred unless the claim is filed on or before July 11, 2013. If the Federal law that authorizes judicial review of a claim provides a time period of less than 150 days for filing such claim, then that shorter time period still applies.

FOR FURTHER INFORMATION CONTACT: Mr. J. Michael Bowen, P.E., Acting Division Administrator, Federal Highway Administration, 3250 Executive Park Drive, Springfield, Illinois 62703, Phone: (217) 492-4600, Email address: J.Michael.Bowen@dot.gov. The FHWA Illinois Division Office's normal business hours are 7:30 a.m. to 4:15 p.m. (Central Standard Time). You may also contact Mr. John Fortmann, P.E., Illinois Department of Transportation, Acting Deputy Director of Highways, Region One Engineer, 201 West Center Court, Schaumburg, Illinois 60196, Phone: (847) 705-4000. The Illinois Department of Transportation Region One's normal business hours are 8 a.m. to 4:30 p.m. (Central Standard Time). You may also contact Mr. Greg Kicinski, Director, Project Management, Indiana Department of Transportation, 100 North Senate Avenue IGCN 642, Indianapolis, IN 46204, Phone: (317) 234-1534. The Indiana Department of Transportation normal business hours are 8 a.m. to 4:00 p.m. (Eastern Standard Time).

SUPPLEMENTARY INFORMATION: Notice is hereby given that the FHWA has issued a Tier One Final Environmental Impact Statement (FEIS) and Record of Decision (ROD) in connection with the proposed highway project within the Illiana Corridor of Illinois and Indiana. Decisions in the Tier One ROD include, but are not limited to the following:

a. The purpose and need for the project, including goals to improve regional mobility, alleviate local system congestion and improve local system mobility, and provide for efficient movement of freight in the Illiana Corridor between I-55 on the west and I-65 on the east.

b. The selection of Corridor B3 that generally starts at I-55 north of Wilmington, Illinois, passes south of the proposed South Suburban Airport, and connects with I-65 north of Lowell, Indiana. It is typically 2,000 feet in width.

c. The elimination from further consideration and study of Corridor A3S2 and Corridor B4.

d. The evaluation of a range of alternatives within Corridor B3 to identify a preferred alignment during the Tier Two NEPA studies. The flexibility will exist, however, to consider alternatives outside of Corridor B3 if necessary to avoid sensitive environmental resources identified as part of the Tier Two environmental field studies, or to address context sensitive design issues in a way that does not materially increase overall impacts. The issue of whether to consider alternatives outside the selected corridor will be determined in consultation with resource agencies in Tier Two.

Interested parties may consult the ROD and FEIS for further information on each of the decisions described above.

The Tier One actions by the Federal agencies, and the laws under which such actions were taken, are described in the FEIS approved January 17, 2013, the ROD approved January 17, 2013, and in other documents in the FHWA project records. The scope and purpose of the Tier One FEIS are described in Section 1.0 of the FEIS. The FEIS, ROD, and other documents in the FHWA project file are available by contacting the FHWA or the Illinois or Indiana Departments of Transportation at the addresses provided above. The FEIS and ROD also are available online at http://illianacorridor.org/.

This notice applies to all Federal agency decisions as of the issuance date of this notice and all laws under which such actions were taken, including, but not limited to:

1. General: National Environmental Policy Act (NEPA) [42 U.S.C. 4321-4351] Federal-Aid Highway Act [23 U.S.C. 109 and 23 U.S.C. 128].

2. Air: Clean Air Act [42 U.S.C. 7401-7671(q)].

3. Land: Section 4(f) of the Department of Transportation Act of 1966 [49 U.S.C. 303 and 23 U.S.C. 138].

4. Wildlife: Endangered Species Act [16 U.S.C. 1531-1544 and Section 1536]; Migratory Bird Treaty Act [16 U.S.C. 703-712].

5. Historic and Cultural Resources: Section 106 of the National Historic Preservation Act of 1966, as amended [16 U.S.C. 470(f) et seq].

6. Water Resources: Safe Drinking Water Act [42 U.S.C. 300(f)-300(j)(6)]; Wild and Scenic Rivers Act [16 U.S.C. 1271-1287].

7. Executive Orders: E.O. 11990 Protection of Wetlands; E.O. 11988 Floodplain Management; E.O. 12898 Federal Actions to Address Environmental Justice in Minority Populations and Low Income Populations.

(Catalog of Federal Domestic Assistance Program Number 20.205, Highway Research, Planning and Construction. The regulations implementing Executive Order 12372 regarding intergovernmental consultation on Federal programs and activities apply to this program).

Authority: 23 U.S.C. 139(l)(1).

Issued on: January 29, 2013.
J. Michael Bowen,
Acting Division Administrator, Springfield, Illinois.

[FR Doc. 2013-02715 Filed 2-8-13; 8:45 am]

BILLING CODE 4910-22-P